FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Draft Cargoways India Private Limited, 274 Marlin Street, Dix Hills, NY 11746, Officers: Prasad Prabhakar Gokhale, CEO (Qualifying Individual), D. R. Shete, Managing Director.

One World Logistics LLC, 381 Blair Road, Avenel, NJ 07001, Officers: Freddie Amin (Rasik Amin), Import/Export Traffic Manager (Qualifying Individual), Jitendra S. Patel, President.

South Texas Shipping, Inc., 28250 F.M. 2978, Suite 111, Magnolia, TX 77354, Officer: Lynn Patrick Stewart, President (Qualifying Individual).

WSA International, Inc., 1713 Coral Ridge Drive, Coral Springs, FL 33071, Officer: Vanessa Aristud, President (Qualifying Individual).

Non-Vessel Operating Common Carrier and Ocean Freight Forwarder Transportation Intermediary Applicants:

Global Tassili Transport Services, Inc. dba GTTS, 8206 Fairbanks, No. Houston, Houston, TX 77064, Officers: Beverly S. Sellentin, Vice President (Qualifying Individual), Benali Belkagemi, President.

Corrigan's Express Freight Corporation, 8900 Bellanca Avenue, Los Angeles, CA 90045, Officers: Warren L. Barnes, CEO (Qualifying Individual), Julian Keeling, President.

American Global Marketing Inc. dba American Global Corp., 1144½ South Doheny Drive, Los Angeles, CA 90035, Officers: Mamdouh (Moe) S. Mokhtar, President, Osana V. Michael, Logistics Manager (Qualifying Individuals).

Ocean Freight Forwarder, Ocean Transportation Intermediary Applicant:

Nankai Transport International (USA), Inc., 8820 Bellanca Avenue, Los Angeles, CA 90045, Officers: Matsuyoshi Jouchi, Vice President (Qualifying Individual), Tsuneharu Tanaka, President/Director.

Dated: June 26, 2003.
Bryant L. VanBrakle,
Secretary.

[FR Doc. 03-16632 Filed 7-1-03; 8:45 am]

BILLING CODE 6730-01-P